DEPARTMENT OF COMMERCE

International Trade Administration

[A-570-141, C-570-142]

Certain Walk-Behind Snow Throwers and Parts Thereof From the People's Republic of China: Antidumping Duty and Countervailing Duty Orders

AGENCY: Enforcement and Compliance, International Trade Administration, Department of Commerce.

SUMMARY: Based on affirmative final determinations by the U.S. Department of Commerce (Commerce) and the U.S. International Trade Commission (ITC), Commerce is issuing antidumping duty (AD) and countervailing duty (CVD) orders on certain walk-behind snow throwers and parts thereof (snow throwers) from the People's Republic of China (China).

DATES: Applicable May 19, 2022.

FOR FURTHER INFORMATION CONTACT: Laurel LaCivita (AD) and Joy Zhang (CVD), AD/CVD Operations, Office III, Enforcement and Compliance, U.S. Department of Commerce, 1401 Constitution Avenue NW, Washington, DC 20230; telephone: (202) 482-5848 or 202-482-1168, respectively.

SUPPLEMENTARY INFORMATION:

Background

In accordance with sections 705(d) and 735(d) of the Tariff Act of 1930, as amended (the Act), on March 29, 2022, Commerce published its affirmative final determination of sales at less than fair value (LTFV) and its affirmative final determination that countervailable subsidies are being provided to producers and exporters of snow throwers from China.¹

¹ See Certain Walk-Behind Snow Throwers from the People's Republic of China: Final Affirmative Determination of Sales at Less Than Fair Value, 87 FR 17984 (March 29, 2022); see also Certain Walk-Behind Snow Throwers from the People's Republic of China: Final Affirmative Countervailing Duty Determination, 87 FR 17987 (March 29, 2022).

On May 11, 2022, pursuant to sections 705(d) and 735(d) of the Act, the ITC notified Commerce of its final affirmative determinations that an industry in the United States is materially injured by reason of LTFV imports and subsidized imports of snow throwers from China, within the meaning of sections 705(b)(1)(A)(i) and 735(b)(1)(A)(i) of the Act.²

² See ITC's Letter, “Notification of ITC Final Determinations,” dated May 11, 2022 (ITC Notification Letter).

Scope of the Orders

The products covered by these orders are snow throwers from China. For a full description of the scope of the orders, see the appendix to this notice.

AD Order

As stated above, on May 11, 2022, in accordance with section 735(d) of the Act, the ITC notified Commerce of its final determination that an industry in the United States is materially injured within the meaning of section 735(b)(1)(A)(i) of the Act by reason of imports of snow throwers from China that are sold in the United States at LTFV.³ Therefore, in accordance with section 735(c)(2) of the Act, we are issuing this AD order. Because the ITC determined that imports of snow throwers from China are materially injuring a U.S. industry, unliquidated entries of such merchandise from China entered, or withdrawn from warehouse, for consumption are subject to the assessment of antidumping duties.

³ Id.

Therefore, in accordance with section 736(a)(1) of the Act, Commerce intends to direct U.S. Customs and Border Protection (CBP) to assess, upon further instruction by Commerce, antidumping duties equal to the amount by which the normal value of the merchandise exceeds the export price (or constructed export price) of the merchandise for all relevant entries of snow throwers from China. Antidumping duties will be assessed on unliquidated entries of snow throwers from China entered, or withdrawn from warehouse, for consumption on or after November 5, 2021, the date of publication of the AD Preliminary Determination, but will not include entries occurring after the expiration of the provisional measures period and before publication of the ITC's final injury determination, as further described below.⁴

⁴ See Certain Walk-Behind Snow Throwers from the People's Republic of China: Preliminary Affirmative Determination of Sales at Less Than Fair Value, Postponement of the Final Determination and Extension of Provisional Measures, 86 FR 61135 (November 5, 2021) (AD Preliminary Determination).

Continuation of Suspension of Liquidation—AD

Except as noted in the “Provisional Measures—AD” section of this notice, in accordance with section 735(c)(1)(B) of the Act, Commerce intends to instruct CBP to continue to suspend liquidation on all relevant entries of snow throwers from China. These instructions suspending liquidation will remain in effect until further notice.

Commerce also intends to instruct CBP to require cash deposits equal to the estimated weighted-average dumping margins indicated in the table below, adjusted by the relevant subsidy offsets. Accordingly, effective on the date of publication in the Federal Register of the notice of the ITC's final affirmative injury determination, CBP must require, at the same time as importers would normally deposit estimated customs duties on subject merchandise, a cash deposit equal to the rates listed in the table below.

Estimated Weighted-Average Dumping Margins

The estimated weighted-average dumping margins are as follows:

Exporter | Producer | Estimated weighted- average dumping margin (percent) | Cash deposit rate (adjusted for subsidy offsets) (percent)
Zhejiang Zhouli Industrial Co., Ltd | Zhejiang Zhouli Industrial Co., Ltd | 163.27 | 142.19
Ningbo Scojet Import & Export Trade Co., Ltd | Ninghai Yiyi Garden Tools Co., Ltd | 163.27 | 142.19
Sumec Hardware and Tools Co., Ltd | Zhejiang KC Mechanical & Electrical Co., Ltd | 163.27 | 142.19
Zhejiang Amerisun Technology Co., Ltd | Zhejiang Dobest Power Tools Co., Ltd | 169.27 | 142.19
Zhejiang KC Mechanical & Electrical Co., Ltd | Zhejiang KC Mechanical & Electrical Co., Ltd | 169.27 | 142.19
China-Wide Entity |  | 223.07 | 201.99

Provisional Measures—AD

Section 733(d) of the Act states that suspension of liquidation pursuant to an affirmative preliminary determination may not remain in effect for more than four months, except where exporters representing a significant proportion of exports of the subject merchandise request that Commerce extend the four-month period to no more than six months. At the request of exporters that account for a significant proportion of snow throwers from China, Commerce extended the four-month period to six months in this AD investigation. Commerce published the AD Preliminary Determination on November 5, 2021.⁵

⁵ See AD Preliminary Determination.

The extended provisional measures period, beginning on the date of publication of the AD Preliminary Determination, ended on May 3, 2022. Therefore, in accordance with section 733(d) of the Act and our practice, Commerce will instruct CBP to terminate the suspension of liquidation and to liquidate, without regard to antidumping duties, unliquidated entries of snow throwers from China entered, or withdrawn from warehouse, for consumption after May 3, 2022, the final day on which the provisional measures were in effect, until and through the day preceding the date of publication of the ITC's final affirmative injury determination in the Federal Register. Suspension of liquidation and the collection of cash deposits will resume on the date of publication of the ITC's final determination in the Federal Register.

CVD Order

As stated above, on May 11, 2022, in accordance with section 705(d) of the Act, the ITC notified Commerce of its final determination that the industry in the United States is materially injured within the meaning of section 705(b)(1)(A)(i) of the Act by reason of subsidized imports of snow throwers from China.⁶ Therefore, in accordance with section 705(c)(2) of the Act, Commerce is issuing this CVD order. Because the ITC determined that imports of snow throwers from China are materially injuring a U.S. industry, unliquidated entries of subject merchandise from China entered, or withdrawn from warehouse, for consumption, are subject to the assessment of countervailing duties.

⁶ See ITC Notification Letter.

Therefore, in accordance with section 706(a) of the Act, Commerce intends to direct CBP to assess, upon further instruction by Commerce, countervailing duties for all relevant entries of snow throwers from China, which are entered, or withdrawn from warehouse, for consumption on or after September 10, 2021, the date of publication of the CVD Preliminary Determination, but will not include entries occurring after the expiration of the provisional measures period and before the publication of the ITC's final injury determination under section 705(b) of the Act, as further described in the “Provisional Measures—CVD” section of this notice.⁷

⁷ See Certain Walk-Behind Snow Throwers and Parts Thereof from the People's Republic of China: Preliminary Affirmative Countervailing Duty Determination and Alignment of Final Determination with Final Antidumping Determination, 86 FR 50696 (September 10, 2021) (CVD Preliminary Determination).

Suspension of Liquidation and Cash Deposits—CVD

In accordance with section 706 of the Act, Commerce intends to instruct CBP to reinstitute the suspension of liquidation of snow throwers from China, effective on the date of publication of the ITC's final affirmative injury determination in the Federal Register, and to assess, upon further instruction by Commerce, pursuant to section 706(a)(1) of the Act, countervailing duties for each entry of subject merchandise in an amount based on the net countervailable subsidy rates below. On or after the date of publication of the ITC's final injury determination in the Federal Register, CBP must require, at the same time as importers would normally deposit estimated customs duties on this merchandise, a cash deposit equal to the rates listed in the table below. These instructions suspending liquidation will remain in effect until further notice. The all-others rate applies to all producers or exporters not specifically listed below, as appropriate:

Company | Subsidy rate (percent)
Zhejiang Zhouli Industrial Co | 203.06
Changzhou Globe Tools Co., Ltd | 203.06
Nanjing Chervon Industry Co., Ltd | 203.06
Ningbo Daye Garden Machinery Co., Ltd | 203.06
Ningbo Joyo Garden Machinery Co., Ltd | 203.06
Ningbo Scojet Import & Export Trading | 203.06
TIYA International Co., Ltd | 203.06
Weima Agricultural Machinery Co., Ltd | 203.06
Zhejiang Yat Electrical Appliance Co | 203.06
All Others | 203.06

Provisional Measures—CVD

Section 703(d) of the Act states that the suspension of liquidation pursuant to an affirmative preliminary determination may not remain in effect for more than four months. Commerce published the CVD Preliminary Determination on September 10, 2021.⁸ As such, the four-month period beginning on the date of the publication of the CVD Preliminary Determination ended on January 7, 2022.

⁸ Id.

Therefore, in accordance with section 703(d) of the Act, we instructed CBP to terminate the suspension of liquidation and to liquidate, without regard to countervailing duties, unliquidated entries of snow throwers from China entered, or withdrawn from warehouse, for consumption, on or after January 7, 2022, the date on which the provisional measures expired, until and through the day preceding the date of publication of the ITC's final injury determination in the Federal Register. Suspension of liquidation will resume on the date of publication of the ITC's final determination in the Federal Register.

Notification to Interested Parties

This notice constitutes the AD and CVD orders with respect to snow throwers from China pursuant to sections 706(a) and 736(a) of the Act. Interested parties can find a list of orders currently in effect at https://enforcement.trade.gov/stats/iastats1.html.

These orders are published in accordance with sections 706(a) and 736(a) of the Act and 19 CFR 351.211(b).

Dated: May 13, 2022.
Lisa W. Wang,
Assistant Secretary for Enforcement and Compliance.

Appendix—Scope of the Orders

The merchandise covered by these orders consists of gas-powered, walk-behind snow throwers (also known as snow blowers), which are snow moving machines that are powered by internal combustion engines and primarily pedestrian-controlled. The scope of these orders covers certain snow throwers (also known as snow blowers), whether self-propelled or non-self-propelled, whether finished or unfinished, whether assembled or unassembled, and whether containing any additional features that provide for functions in addition to snow throwing. Subject merchandise also includes finished and unfinished snow throwers that are further processed in a third country or in the United States, including, but not limited to, assembly or any other processing that would not otherwise remove the merchandise from the scope of these orders if performed in the country of manufacture of the in-scope snow throwers.

Walk-behind snow throwers subject to the scope of these orders are powered by internal combustion engines which are typically spark ignition, single or multiple cylinder, and air-cooled with power take off shafts.

For the purposes of these orders, an unfinished and/or unassembled snow thrower means at a minimum, a subassembly comprised of an engine, auger housing (i.e., intake frame), and an auger (or “auger paddle”) packaged or imported together. An intake frame is the portion of the snow thrower—typically of aluminum or steel that houses and protects an operator from a rotating auger and is the intake point for the snow. Importation of the subassembly whether or not accompanied by, or attached to, additional components including, but not limited to, handle(s), impeller(s), chute(s), track tread(s), or wheel(s) constitutes an unfinished snow thrower for purposes of these orders. The inclusion in a third country of any components other than the snow thrower sub-assembly does not remove the snow thrower from the scope. A snow thrower is within the scope of these orders regardless of the origin of its engine.

Specifically excluded is merchandise covered by the scope of the antidumping and countervailing duty orders on certain vertical shaft engines between 225cc and 999cc, and parts thereof from the People's Republic of China. See Certain Vertical Shaft Engines Between 225cc and 999cc, and Parts Thereof, from the People's Republic of China: Amended Final Antidumping Duty Determination and Antidumping Duty Order, 86 FR 12623 (March 4, 2021); and Certain Vertical Shaft Engines Between 225cc and 999cc, and Parts Thereof from the People's Republic of China: Countervailing Duty Order and Amended Final Affirmative Countervailing Duty Determination, 86 FR 12619 (March 4, 2021).

Also specifically excluded is merchandise covered by the scope of the antidumping and countervailing duty orders on certain vertical shaft engines between 99cc and Up to 225cc, and parts thereof from the People's Republic of China. See Certain Vertical Shaft Engines Between 99cc and Up to 225cc, and Parts Thereof from the People's Republic of China: Antidumping and Countervailing Duty Orders, 86 FR 023675 (May 4, 2021).

The snow throwers subject to these orders are typically entered under Harmonized Tariff Schedule of the United States (HTSUS) subheading 8430.20.0060. Certain parts of snow throwers subject to these orders may also enter under HTSUS 8431.49.9095. The HTSUS subheadings are provided for convenience and customs purposes only, and the written description of the merchandise under these orders is dispositive.

[FR Doc. 2022-10789 Filed 5-18-22; 8:45 am]

BILLING CODE 3510-DS-P